DEPARTMENT OF HEALTH AND HUMAN SERVICES

Centers for Disease Control and Prevention

Meeting: Board of Scientific Counselors, National Center for Injury Prevention and Control, Secondary Review

The meeting announced below concerns, FOA CE12-004: Characterizing the Short and Long Term Consequences of Traumatic Brain Injury (TBI) among Children in the United States (U01); CE12-005: Field Triage of Traumatic Brain Injury (TBI) in Older Adults Taking Anticoagulants or Platelet Inhibitors (U01); CE12-006: Alcohol-related Motor Vehicle Injury Research (U01); and CE12-007: Research to Prevent Prescription Drug Overdoses (U01).

In accordance with Section 10(a)(2) of the Federal Advisory Committee Act (Pub. L. 92-463), the Centers for Disease Control and Prevention (CDC) announces the aforementioned meeting:

Time and Date: 11 a.m.-1 p.m., July 12, 2012 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will conduct the secondary review, discussion of competitive applications following initial review of applications received in response to FOA CE12-004: Characterizing the Short and Long Term Consequences of Traumatic Brain Injury (TBI) among Children in the United States (U01); CE12-005: Field Triage of Traumatic Brain Injury (TBI) in Older Adults Taking Anticoagulants or Platelet Inhibitors (U01); CE12-006: Alcohol-related Motor Vehicle Injury Research (U01); and CE12-007: Research to Prevent Prescription Drug Overdoses (U01).

Contact Person for More Information: Gwendolyn Haile Cattledge, Ph.D., M.S.E.H., F.A.C.E., Deputy Associate Director for Science, CDC, 4770 Buford Highway, Atlanta, Georgia 30341, Telephone: (404) 488-1430.

The Director, Management Analysis and Services Office, has been delegated the authority to sign Federal Register notices pertaining to announcements of meetings and other committee management activities, for both the Centers for Disease Control and Prevention and the Agency for Toxic Substances and Disease Registry.

Dated: June 19, 2012.
Elaine L. Baker,
Director, Management Analysis and Services Office, Centers for Disease Control and Prevention.

[FR Doc. 2012-15431 Filed 6-22-12; 8:45 am]

BILLING CODE 4163-18-P